Proclamation 10296 of October 29, 2021

National Adoption Month, 2021

By the President of the United States of America

A Proclamation

Every child deserves to grow up with a safe and loving family, with the care and support of their community. During National Adoption Month, we celebrate all of the children and families nurtured, enriched, and made whole by adoption and recommit ourselves to ensuring that every child in America can grow up in a loving and supportive home.

The COVID-19 pandemic has made it especially challenging for children in the foster care system. For thousands of young people in foster care, navigating the challenges of growing up can be especially difficult without stable family connections. Because of the added difficulties imposed by the pandemic, my Administration has implemented the substantial investments made through the Supporting Foster Youth and Families Through the Pandemic Act to help older adolescents transitioning from the foster care system maintain housing, stay in school, pay the bills, and lay a strong foundation for adulthood. My Administration encourages States to continue using these available funds to support older foster youth in every way they can.

During this month, we also acknowledge the history of injustices and racial bias in our Nation's child welfare system. To this day, Black and Native American children are more likely to be removed from their homes, more likely to stay in care longer, and less likely to be adopted than white children. To ensure the equal dignity and care of all our children, we must improve our efforts to keep families together, prevent the trauma of unnecessary child removal, and recruit and support new adoptive families—especially kinship caregivers. Finally, we must further support families who have already taken youth into their homes and invest the time and energy needed to ensure that all children—including LGBTQ+ youth whose needs are not always met in the foster care system—can find the happiness and well-being that every child and young person deserves.

This National Adoption Month, we celebrate the families who have been forged through adoption, including from foster care. We extend our gratitude to the dedicated professionals who work tirelessly to support adoptive families through compassion and hard work and to the foster families who love, care, and provide for our Nation's foster youth. Most importantly, we acknowledge the strength and resiliency of the children and youth who are still waiting to find their forever homes.

NOW, THEREFORE I, JOSEPH R. BIDEN JR., President of the United States of America, by virtue of the authority vested in me by the Constitution and the laws of the United States, do hereby proclaim November 2021 as National Adoption Month. I encourage all Americans to observe this month by helping children and youth in need of a permanent home secure a more promising future with a forever family and enter adulthood with the love and connections that are so important to their growth.

IN WITNESS WHEREOF, I have hereunto set my hand this twenty-ninth day of October, in the year of our Lord two thousand twenty-one, and of the Independence of the United States of America the two hundred and forty-sixth.

[FR Doc. 2021-24114

Filed 11-2-21; 8:45 am]

Billing code 3395-F2-P